DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Gear-Marking Requirements for Atlantic Large Whale Take Reduction Plan.

Form Number(s): None.

OMB Approval Number: 0648-0364.

Type of Request: Regular submission.

Burden Hours: 2,572.

Number of Respondents: 4,506.

Average Hours per Response: 1 minute.

Needs and Uses: The gear-marking requirements will assist the National Marine Fisheries Service (NMFS) in obtaining detailed information about which fisheries or specific parts of fishing gear are responsible for the incidental mortality and serious injury of North Atlantic right, humpback, and fin whales obtained as a result of gear-marking, which links incidental mortality and serious injury of marine mammals to specific gear types, locations, and fishermen. The information will enable NMFS to focus future management measures on specific problem areas and issues and avoid instituting potentially overly broad measures that affect fisheries unnecessarily. This collection of information would affect the following fisheries: Northeast and Mid-Atlantic lobster trap/pot fisheries; Atlantic blue crab trap/pot fisheries; Atlantic mixed species trap/pot fisheries targeting crab (red, Jonah, and rock), hagfish, finfish (black sea bass, scup, tautog, cod, haddock, pollock, redfish, and white hake), conch/whelk, and shrimp; Northeast and Mid-Atlantic anchored gillnet; Northeast drift gillnet; Mid-Atlantic coastal gillnet; Southeast shark gillnet; and Southeast Atlantic gillnet.

Affected Public: Individuals or households; business or other for-profit organizations.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: October 26, 2005.
Gwellnar Banks,
Management Analyst, Office of the Chief Information Officer.

[FR Doc. 05-21685 Filed 10-31-05; 8:45 am]

BILLING CODE 3510-22-P